DEPARTMENT OF DEFENSE

Department of the Army

Board of Visitors, United States Military Academy; Meeting

AGENCY: United States Military Academy.

ACTION: Notice of Open Meeting.

SUMMARY: In accordance with Section 10(a)(2) of the Federal Advisory Committee Act (P.L. 92-463), announcement is made of the following meeting:

Name of Committee: Board of Visitors, United States Military Academy.

Date of Meeting: 8 May 2000.

Place of Meeting: Superintendent's Conference Room, Taylor Hall, United States Military Academy, West Point, New York.

Start Time of Meeting: Approximately 2:00 pm.

FOR FURTHER INFORMATION CONTACT: For further information, contract Lieutenant Colonel Lawrence J. Verbiest, United States Military Academy, West Point, NY 10996-5000, (914) 938-4200.

SUPPLEMENTARY INFORMATION:

Proposed Agenda: Review of the Academic, Military and Physical Programs, Intercollegiate Sports Programs and Admissions at USMA. All proceedings are open.

Gregory D. Showalter,
Army Federal Register Liaison Officer.

[FR Doc. 00-7391 Filed 3-24-00; 8:45 am]

BILLING CODE 3710-08-M